DEPARTMENT OF DEFENSE

Office of the Secretary

[Transmittal No. 25-25]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-25 and Policy Justification.

Dated: January 21, 2026.
Stephanie J. Bost,
Alternate OSD Federal Register Liaison Officer, Department of Defense.

BILLING CODE 6001-FR-P

BILLING CODE 6001-FR-C

Transmittal No. 25-25

Notice of Proposed Issuance of Letter of Offer Pursuant to Section 36(b)(1) of the Arms Export Control Act, as amended

(i) Prospective Purchaser: Government of the United Arab Emirates

(ii) Total Estimated Value:

Major Defense Equipment * | $ 0
Other | $130 million
TOTAL | $130 million

Funding Source: National Funds

(iii) Description and Quantity or Quantities of Articles or Services under Consideration for Purchase: Foreign Military Sales (FMS) case AE-D-QAM was below the congressional notification threshold at $40.9 million ($0 in MDE) and included Common Munitions Built-in-Test Reprogramming Equipment (CMBRE); munitions support equipment; night vision device (NVD) support and spare equipment; spare parts, consumables, and accessories; repair and return support; classified and unclassified software delivery and support; classified and unclassified publications and technical documentation; site surveys; studies and surveys; transportation support; United States (U.S.) Government and contractor engineering, technical, and logistics support services; and other related elements of logistics and program support. The Government of the United Arab Emirates has requested that the case be amended to include additional F-16 aircraft components, spares, and accessories and other related elements of logistics and program support. This amendment will cause the case to exceed the notification threshold, and thus notification of the entire program is required. The above notification requirements are combined as follows:

Major Defense Equipment (MDE):

None

Non-Major Defense Equipment:

Common Munitions Built-in-Test Reprogramming Equipment (CMBRE); munitions support equipment; night vision device (NVD) support and spare equipment; spare parts, consumables and accessories; repair and return support; classified and unclassified software delivery and support; classified and unclassified publications and technical documentation; site surveys; studies and surveys; transportation support; U.S. Government and contractor engineering, technical, and logistics support services; aircraft components, spares, and accessories; and other related elements of logistics and program support.

(iv) Military Department: Air Force (AE-D-QAM)

(v) Prior Related Cases, if any: None

(vi) Sales Commission, Fee, etc., Paid, Offered, or Agreed to be Paid: None known at this time

(vii) Sensitivity of Technology Contained in the Defense Article or Defense Services Proposed to be Sold: None

(viii) Date Report Delivered to Congress: May 12, 2025

* as defined in Section 47(6) of the Arms Export Control Act.

POLICY JUSTIFICATION

United Arab Emirates—F-16 Sustainment

The Government of the United Arab Emirates (UAE) has requested to buy additional F-16 aircraft components, spares, and accessories; and other related elements of logistics and program support that will be added to a previously implemented case whose value was below the congressional notification threshold. The original Foreign Military Sales (FMS) case, valued at $40.9 million ($0 in MDE), included Common Munitions Built-in-Test Reprogramming Equipment (CMBRE); munitions support equipment; night vision device (NVD) support and spare equipment; spare parts, consumables and accessories; repair and return support; classified and unclassified software delivery and support; classified and unclassified publications and technical documentation; site surveys; studies and surveys; transportation support; U.S. Government and contractor engineering, technical, and logistics support services. The estimated total cost is $130 million.

This proposed sale will support the foreign policy and national security of the U.S.by helping to improve the security of a major defense partner. The UAE is a force for political stability and economic progress in the Middle East.

The proposed sale will improve the United Arab Emirates' ability to defend its sovereignty and territorial integrity to meet its national defense requirements. The United Arab Emirates will have no difficulty absorbing this equipment and services into its armed forces.

The proposed sale of this equipment and support will not alter the basic military balance in the region.

There are no principal contractors associated with this potential sale. At this time, the U.S. Government is not aware of any offset agreement proposed in connection with this potential sale. Any offset agreement will be defined in negotiations between the purchaser and the contractor.

Implementation of this proposed sale will not require the assignment of additional U.S. Government or U.S. contractor representatives to the UAE.

There will be no adverse impact on U.S. defense readiness as a result of this proposed sale.

[FR Doc. 2026-01363 Filed 1-23-26; 8:45 am]

BILLING CODE 6001-FR-P